DEPARTMENT OF TRANSPORTATION

Federal Aviation Administration

14 CFR Part 39

[Docket No. 97-ANE-09]

Airworthiness Directives; Rolls-Royce plc RB211 Trent 800 Series Turbofan Engines

AGENCY: Federal Aviation Administration, DOT.

ACTION: Proposed rule; withdrawal.

SUMMARY: This action withdraws a notice of proposed rulemaking (NPRM). That NPRM proposed to revise the existing airworthiness directive (AD) applicable to Rolls-Royce plc (RR) Model RB211 Trent 892, 884, 877, 875, and 892B series turbofan engines. That proposed rule would have required initial and repetitive inspections of the angled drive upper shroud, the intermediate gearbox housing (IGH), and the external gearbox lower bevel box (LBB) housing, and initial and repetitive master magnetic chip detector (MCD) inspections. Since we issued that proposed rule, RR notified us that after reviewing the service experience and the original actions taken, the unsafe condition no longer exists and mandatory actions required by the proposed rule are no longer required. Accordingly, we withdraw the proposed rule.

FOR FURTHER INFORMATION CONTACT: Christopher Spinney, Aerospace Engineer, Engine Certification Office, FAA, Engine and Propeller Directorate, 12 New England Executive Park, Burlington, MA 01803; telephone (781) 238-7175; fax (781) 238-7199.

SUPPLEMENTARY INFORMATION: The FAA proposed to amend 14 CFR part 39 with a proposed AD. The proposed AD applies to RR Model RB211 Trent 892, 884, 877, 875, and 892B series turbofan engines. We published the proposed AD in the Federal Register on November 2, 1999 (64 FR 59137). That proposed action would have required initial and repetitive inspections of the angled drive upper shroud, the intermediate gearbox housing (IGH), and the external gearbox lower bevel box (LBB) housing. In addition, that proposed AD would have required initial and repetitive master magnetic chip detector (MCD) inspections. Also, that proposed AD would have eliminated the repetitive inspections of the IGH, external gearbox LBB housing, and the angled drive upper shroud, if the engines have incorporated modifications described in certain RR service bulletins. Also, that proposed AD would have increased the inspection interval for repetitive master MCD inspections. That proposed AD resulted from service experience since publication of AD 97-06-13. We proposed that AD to prevent loss of oil, which could cause an engine fire, and in-flight engine shutdowns and airplane diversions caused by oil loss and bearing failures.

Since we issued that proposed AD, RR notified us that after reviewing the service experience and the original actions taken, the unsafe condition no longer exists and mandatory actions required by the proposed AD are no longer required.

Upon further consideration, we hereby withdraw the proposed rule based on RR's analysis and conclusion stated above.

Withdrawal of this notice of proposed rulemaking constitutes only such action, and does not preclude the agency from issuing another notice in the future, nor does it commit the agency to any course of action in the future.

Since this action only withdraws a notice of proposed rulemaking, it is neither a proposed nor a final rule. Executive Order 12866, the Regulatory Flexibility Act, or DOT Regulatory Policies and Procedures (44 FR 11034, February 26, 1979) do not cover this withdrawal.

List of Subjects in 14 CFR Part 39

Air transportation, Aircraft, Aviation safety, Safety.

The Withdrawal

Accordingly, we withdraw the notice of proposed rulemaking, Docket No. 97-ANE-09, published in the Federal Register on November 2, 1999 (64 FR 59137).

Issued in Burlington, Massachusetts, on April 11, 2006.
Francis A. Favara,
Manager, Engine and Propeller Directorate, Aircraft Certification Service.

[FR Doc. E6-5666 Filed 4-14-06; 8:45 am]

BILLING CODE 4910-13-P